ENVIRONMENTAL PROTECTION AGENCY

[OPP-2002-0354; FRL-7287-1]

Notice of Receipt of Requests to Voluntarily Cancel Certain Pesticide Registrations

AGENCY: Environmental Protection Agency (EPA).

ACTION: Notice.

SUMMARY: In accordance with section 6(f)(1) of the Federal Insecticide, Fungicide, and Rodenticide Act (FIFRA), as amended, EPA is issuing a notice of receipt of request by registrants to voluntarily cancel certain pesticide registrations.

DATES: Unless a request is withdrawn by the registrant before September 15, 2003, the Agency will approve these cancellations and the cancellations will become effective on September 15, 2003.

FOR FURTHER INFORMATION CONTACT: Diane Isbell, Special Review and Reregistration Division 7508C, Office of Pesticide Programs, Environmental Protection Agency, 1200 Pennsylvania Ave., NW., Washington, DC 20460-0001; telephone number: (703) 308-8154; e-mail address: isbell.diane@epa.gov.

SUPPLEMENTARY INFORMATION:

I. General Information

A. Does this Action Apply to Me?

This action is directed to the public in general. Although this action may be of particular interest to persons who produce or use pesticides, the Agency has not attempted to describe all the specific entities that may be affected by this action. If you have any questions regarding the information in this notice, consult the person listed under FOR FURTHER INFORMATION CONTACT.

B. How Can I Get Copies of This Document and Other Related Information?

1. Docket. EPA has established an official public docket for this action under docket identification (ID) number OPP-2002-0354. The official public docket consists of the documents specifically referenced in this action, any public comments received, and other information related to this action. Although a part of the official docket, the public docket does not include Confidential Business Information (CBI) or other information whose disclosure is restricted by statute. The official public docket is the collection of materials that is available for public viewing at the Public Information and Records Integrity Branch (PIRIB), Rm. 119, Crystal Mall #2, 1921 Jefferson Davis Hwy., Arlington, VA. This docket facility is open from 8:30 a.m. to 4 p.m., Monday through Friday, excluding legal holidays. The docket telephone number is (703) 305-5805.

2. Electronic access. You may access this Federal Register document electronically through the EPA Internet under the “Federal Register” listings at http://www.epa.gov/fedrgstr/.

An electronic version of the public docket is available through EPA's electronic public docket and comment system, EPA Dockets. You may use EPA Dockets at http://www.epa.gov/edocket/ to submit or view public comments, access the index listing of the contents of the official public docket, and to access those documents in the public docket that are available electronically. Although not all docket materials may be available electronically, you may still access any of the publicly available docket materials through the docket facility identified in Unit I.B.1. Once in the system, select “search,” then key in the appropriate docket ID number.

II. What Action is the Agency Taking?

This notice announces receipt by the Agency of applications from registrants to cancel three pesticide products registered under section 3 of FIFRA. These registrations are listed in sequence by registration number in Table 1 of this unit.

Table 1.—Phosmet Registrations with Pending Requests for Cancellation
Registration No. | Product name
2724-169 | Vet-Kem Kemolate Emulsifiable Liquid
10163-167 | Imidan 50-WP Garden and Home Insecticide
28293-15 | Unicorn Phosmet Insecticidal Dust for Dogs

Unless a request is withdrawn by the registrant within 180 days of publication of this notice, orders will be issued canceling all of these registrations. Users of these pesticides or anyone else desiring the retention of a registration should contact the applicable registrant directly during this 180-day period.

Table 2 of this unit includes the names and addresses of record for all registrants of the products in Table 1 of this unit, in sequence by EPA company number:

Table 2.—Registrants Requesting Voluntary Cancellation
EPA Company No. | Company name and address
2724 | Wellmark International 1100 East Woodfield Road, Suite 500 Schaumburg, IL 60173
10163 | Gowan Company 370 S. Main Street Yuma, AZ 85364
28293 | Unicorn Laboratories 12385 Automobile Blvd. Clearwater, FL 33762

III. What is the Agency's Authority for Taking this Action?

Section 6(f)(1) of FIFRA provides that a registrant of a pesticide product may at any time request that any of its pesticide registrations be canceled. FIFRA further provides that, before acting on the request, EPA must publish a notice of receipt of any such request in the Federal Register. Thereafter, the Administrator may approve such a request.

IV. Procedures for Withdrawal of Request

Registrants who choose to withdraw a request for cancellation must submit such withdrawal in writing to the person listed under FOR FURTHER INFORMATION CONTACT, postmarked before September 15, 2003. This written withdrawal of the request for cancellation will apply only to the applicable FIFRA section 6(f)(1) request listed in this notice. If the product(s) have been subject to a previous cancellation action, the effective date of cancellation and all other provisions of any earlier cancellation action are controlling. The withdrawal request must also include a commitment to pay any reregistration fees due, and to fulfill any applicable unsatisfied data requirements.

V. Provisions for Disposition of Existing Stocks

In accordance with the Phosmet Interim Reregistration Eligibility Decision (IRED) document, dated October 30, 2001, and the Memorandum of Agreement signed by Gowan Company on October 20, 2001, the following two products, as identified in Table 1, are prohibited from sale: EPA Reg. Nos. 10163-167 and 28293-15. In addition, Wellmark International is prohibited from selling or distributing existing stocks of phosmet product EPA Reg. No. 2724-169, after March 30, 2003.

Wellmark International signed an Agreement where the signatory, and non-signatory registrants agreed to: Stop formulating phosmet product (EPA Reg. No. 2724-169) for the dog use on August 30, 2002; and stop sales of the product on March 30, 2003. Sales of the subject product at the retail level can continue until supplies are exhausted; and existing stocks of phosmet technical not formulated into the dog use product will be used to formulate livestock use products.

This is in accordance with the Agency's statement of policy as prescribed in the Federal Register of June 26, 1991 (56 FR 29362) (FRL-3846-4). Exceptions will be made if EPA determines that a product poses a risk concern, or is in noncompliance with reregistration requirements, or is subject to a Data Call-In. In all cases, product-specific disposition dates will be given in the cancellation orders.

Existing stocks are those stocks of registered pesticide products which are currently in the United States and which have been packaged, labeled, and released for shipment prior to the effective date of the cancellation action. Unless the provisions of an earlier order apply, existing stocks already in the hands of dealers or users can be distributed, sold, or used legally until they are exhausted, provided that such further sale and use comply with the EPA-approved label and labeling of the affected product. Exception to these general rules will be made in specific cases when more stringent restrictions on sale, distribution, or use of the products or their ingredients have already been imposed, as in a Special Review action, or where the Agency has identified significant potential risk concerns associated with a particular chemical.

List of Subjects

Environmental protection, organophosphate, pesticides and pests.

Dated: March 4, 2003.
Lois A. Rossi,
Director, Information Resources Services Division, Office of Pesticide Programs.

[FR Doc. 03-6236 Filed 3-18-03; 8:45 am]

BILLING CODE 6560-50-S